DEPARTMENT OF TRANSPORTATION

Federal Motor Carrier Safety Administration

[Docket No. FMCSA-2023-0153]

Agency Information Collection Activities; Renewal of an Approved Information Collection: Truck and Bus Maintenance Requirements and Their Impact on Safety

AGENCY: Federal Motor Carrier Safety Administration (FMCSA), Department of Transportation (DOT).

ACTION: Notice and request for comments; correction.

SUMMARY: In a notice published in the Federal Register on August 24, 2023, FMCSA announced its plan to submit the “Truck and Bus Maintenance Requirements and Their Impact on Safety” Information Collection Request (ICR) to the Office of Management and Budget (OMB) for review and approval and invited public comment. The notice incorrectly stated that comments must be received on or before September 1, 2023, which needs to be corrected to allow for a 60-day comment period. This notice makes that correction.

DATES: This correction is effective September 1, 2023.

FOR FURTHER INFORMATION CONTACT: Mike Lukuc, Program Manager, Technology Division, DOT, FMCSA, West Building 6th Floor, 1200 New Jersey Avenue SE, Washington, DC 20590-0001; (202) 385-238; mike.lukuc@dot.gov.

SUPPLEMENTARY INFORMATION: On August 24, 2023, FMCSA published a notice (88 FR 58057) inviting public comment on the “Truck and Bus Maintenance Requirements and Their Impact on Safety” ICR. The notice incorrectly listed September 1, 2023, as the date by which comments are due. Through this document FMCSA corrects that date to allow for a 60-day comment period.

In FR Doc. 2023-18236, appearing on page 58057 in the Federal Register of August 24, 2023, the following corrections is made:

1. On page 58057, the comment period “September 1, 2023” is corrected to read “October 23, 2023”.

Issued under the authority of 49 CFR 1.87.

Thomas P. Keane,
Associate Administrator, Office of Research and Registration.

[FR Doc. 2023-18912 Filed 8-31-23; 8:45 am]

BILLING CODE 4910-EX-P